DEPARTMENT OF LABOR

Comment Request for Information Collection for the Evaluation of the Disability Employment Initiative Round 5 and Future Rounds; Correction

AGENCY: Office of Disability Employment Policy, Department of Labor.

ACTION: Notice; correction.

SUMMARY: The Department of Labor, published a document in the Federal Register of January 12, 2016, concerning a request for comments for information collection for the evaluation of the Disability Employment Initiative round 5 and future rounds. The document contained a comment period of 30 days instead of the required 60 days. This correction notice reopens the comment period for an additional 30 days.

FOR FURTHER INFORMATION CONTACT: Cherise Hunter by telephone at 202-693-4931 (this is not a toll-free number) or by email at hunter.cherise@dol.gov.

Correction

In the Federal Register of January 12, 2016, in FR Document Number 2016-00460, on page 1446, in the second column, correct the “Dates” caption to read:

DATES: Written comments must be submitted to the office listed in the addressee's section below on or before July 6, 2016.

Dated: May 26, 2016.
Jennifer Sheehy,
Deputy Assistant Secretary, Office of Disability Employment Policy, U.S. Department of Labor.

[FR Doc. 2016-13333 Filed 6-3-16; 8:45 am]

BILLING CODE 4510-FK-P